GENERAL SERVICES ADMINISTRATION

41 CFR Part 102-42

[FMR Amendment 2009-01; FMR Case 2008-102-2; Docket 2008-0001; Sequence 3]

RIN 3090-AI60

Federal Management Regulation; FMR Case 2008-102-2, Utilization, Donation, and Disposal of Foreign Gifts and Decorations

AGENCY: Office of Governmentwide Policy, General Services Administration (GSA).

ACTION: Final rule.

SUMMARY: The General Services Administration is amending the Federal Management Regulation (FMR) to revise its policy on appraisals of foreign gifts and decorations, and to encourage agencies to use various methods in obtaining appraisals, including reliable retail Web sites.

DATES: Effective Date: February 17, 2009.

FOR FURTHER INFORMATION CONTACT: Mr. Robert Holcombe, Director, Asset Management (MTA), at (202) 501-3828, or e-mail at robert.holcombe@gsa.gov for clarification of content. For information pertaining to status or publication schedules, contact the Regulatory Secretariat, Room 4041, GS Building, Washington, DC 20405, (202) 501-4755. Please cite FMR Amendment 2009-01, FMR Case 2008-102-2.

SUPPLEMENTARY INFORMATION:

A. Background

This final rule amends part 102-42 of the Federal Management Regulation (FMR) (41 CFR part 102-42) to bring this policy into alignment with 5 U.S.C. 7342 by placing the responsibility and guidelines for obtaining appraisals for foreign gifts and decorations onto the agencies (as required by 5 U.S.C. 7342(g)(2)(b)). Removing the policies from this part that specify the format and content of an appraisal will give agencies greater flexibility in obtaining appraisals. The flexibility is not intended to preclude the reporting of gifts, nor does it eliminate the need for a commercial appraisal when a retail value appraisal is not an option. This applies to all gifts, even when the recipient wishes to retain and/or purchase the item. This flexibility may include agency use of reliable retail Web sites (e.g., Department store Web sites, Commercial merchandise catalogs) to obtain the retail value in the United States of the items(s). This excludes the use of any auction or discount sale offerings that appear on the Internet or written publications (e.g., EBAY, Craig's List, or other non-commercial sites). Also, GSA now requires the employing agency to obtain an appraisal of a gift or decoration that the agency has retained for official use and no longer needs before accepting the agency's report of the item as excess personal property. Additionally, appraisals are required for gifts that are personalized (e.g., Books signed by the author, or gifts personally labeled).

This final rule also updates the address in section 102-42.95.

B. Executive Order 12866

This final rule is excepted from the definition of “regulation” or “rule” under Section 3(d)(3) of Executive Order 12866, Regulatory Planning and Review, dated September 30, 1993 and, therefore, was not subject to review under Section 6(b) of that executive order.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-42

Government property management.

Dated: December 19, 2008.
James A. Williams,
Acting Administrator of General Services.

For the reasons set forth in the preamble, GSA amends 41 CFR part 102-42 as set forth below:

PART 102-42—UTILIZATION, DONATION, AND DISPOSAL OF FOREIGN GIFTS AND DONATIONS

1. The authority citation for 41 CFR part 102-42 continues to read as follows:

Authority: 40 U.S.C. 121(c); 5 U.S.C. 7342.

§§ 102-42.40, 102-42.45, 102-42.50, and 102-42.55 [Removed]

2. Remove §§ 102-42.40, 102-42.45, 102-42.50, and 102-42.55.

3. Add new §§ 102-42.40, 102-42.45, 102-42.50, and 102-42.55 under the undesignated heading “Appraisals” to read as follows:

§ 102-42.40 When is an appraisal necessary?

An appraisal is necessary when—

(a) An employee indicates an interest in purchasing a gift or decoration. In this situation, the appraisal must be obtained before the gift or decoration is reported to GSA for screening (see 102-42.20); or

(b) GSA requires the employing agency to obtain an appraisal of a gift or decoration that the agency has retained for official use and no longer needs before accepting the agency's report of the item as excess personal property; or

(c) The policy of one's own agency requires it, pursuant to 5 U.S.C. 7342(g).

Note to § 102-42.40 paragraphs (a) and (b): Refer to § 102-42.50 for how appraisals under these two situations are handled.

§ 102-42.45 What is my agency's responsibility for establishing procedures for obtaining an appraisal?

The employing agency is responsible for establishing its own procedure for obtaining an appraisal that represents the value of the gift in the United States. This applies to all gifts, even when the recipient wishes to retain and/or purchase the gift. Appraisals are required for gifts that are personalized (e.g., Books signed by the author, Gifts personally labeled).

§ 102-42.50 What types of appraisals may my agency consider?

Your agency may allow—

(a) Written commercial appraisals conducted by an appraisal firm or trade organization; and

(b) Retail value appraisals where the value of the gift may be ascertained by reviewing current and reliable non-discounted retail catalogs, retail price lists, or retail Web site valuations.

§ 102-42.55 What does the employing agency do with the appraisal?

When an appraisal is necessary under § 102-42.40, the employing agency must include the appraisal with the Standard Form (SF) 120, Report of Excess Personal Property, and send it to GSA in accordance with the requirements of § 102-42.95. By attaching the appraisal, the employing agency is certifying that the value cited is the retail value/appraised value of the item in the United States in U.S. dollars on the date set forth on the appraisal.

§ 102-42.95 [Amended]

4. Amend § 102-42.95 in the first paragraph by removing the words “Property Management Division (FBP)” and adding the words “Utilization and Donation Program Division (QSCA)” in its place.

[FR Doc. E9-562 Filed 1-14-09; 8:45 am]

BILLING CODE 6820-14-P